POSTAL REGULATORY COMMISSION

[Docket No. IM2019-1; Order No. 5127]

Section 407 Proceeding

AGENCY: Postal Regulatory Commission.

ACTION: Notice.

SUMMARY: The Commission is establishing a docket to solicit comments for the purpose of developing its views on whether certain proposals for the Third Extraordinary Congress are consistent with the standards and criteria for modern rate regulation established by the Commission under applicable sections of the United States Code. This notice informs the public of the filing, invites public comment, and takes other administrative steps.

DATES: Comments are due: August 1, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Initial Commission Action

III. Ordering Paragraphs

I. Introduction

On April 10, 2019, the Universal Postal Union's (UPU's) Council of Administration agreed to hold a postal ballot on whether to convene an Extraordinary Congress on the UPU terminal dues system; specifically, terminal dues for Inbound Letter Post small packets and bulky letters.¹ UPU members voted in favor of holding an Extraordinary Congress, scheduled for September 24-25, 2019, in Geneva, Switzerland.² Before the United States concludes any treaty, convention, or amendment that establishes a market dominant rate or classification, the Secretary of State must request that the Commission provide views on whether such treaties, conventions, or amendments are consistent with the standards and criteria for modern rate regulation established by the Commission under 39 U.S.C. 3622. 39 U.S.C. 407(c). Pursuant to 39 U.S.C. 407(c)(1) and 39 CFR part 3017, the Commission establishes Docket No. IM2019-1 for the purpose of developing its views on whether certain proposals for the Third Extraordinary Congress are consistent with the standards and criteria for modern rate regulation established by the Commission under 39 U.S.C. 3622.

¹ Press Release, UPU, UPU Member Countries Vote to Hold Geneva Extraordinary Congress on Terminal Dues System (June 7, 2019) (available at http://news.upu.int/no_cache/nd/upu-member-countries-vote-to-hold-geneva-extraordinary-congress-on-terminal-dues-system/).

² Formal invitation to the Third UPU Extraordinary Congress in Geneva, Switzerland, and Related Information from Bishar A. Hussein, Director Gen., UPU, to UPU Member Countries (June 15, 2019) (available at http://www.upu.int/uploads/tx_sbdownloader/genevaCongressInvitationLetterEn.pdf).

II. Initial Commission Action

Establishment of docket. Part 3017 of title 39 of the Code of Federal Regulations codifies procedures related to the development of the Commission's section 407 views.³ Although the Secretary of State has not made a request as of yet, the Commission, pursuant to rule 3017.3(a) establishes this docket to “solicit comments on the general principles that should guide the Commission's development of views on relevant proposals, in a general way, and on specific relevant proposals, if the Commission is able to make these available.” 39 CFR 3017.3(a).

³ See Docket No. RM2015-14, Order Adopting Final Rules on Procedures Related to Commission Views, December 30, 2015 (Order No. 2960). See also 81 FR 869 (January 8, 2016). The rules in part 3017 took effect on February 8, 2016.

Comments. Rule 3017.4(a) provides that the Commission “shall establish a deadline for comments upon establishment of the docket that is consistent with timely submission of the Commission's views to the Secretary of State.” 39 CFR 3017.4 (a). The Third Extraordinary Congress will be held from September 24-25, 2019. To ensure timely submission of the Commission's views to the Department of State, the Commission establishes August 1, 2019, as the deadline for submission of comments on the principles that should guide development of its views, as well as those on the consistency of proposals that relate to a market dominant rate or classification with the standards and criteria of 39 U.S.C. 3622. Comments are to be submitted in the above captioned docket via the Commission's website at http://www.prc.gov unless a request for waiver is approved. For assistance with filing, contact the Commission's docket section at 202-789-6846 or dockets@prc.gov.

Public Representative. Section 505 of title 39 requires the designation of an officer of the Commission (public representative) to represent the interests of the general public in all public proceedings. The Commission designates Kenneth E. Richardson as Public Representative in this proceeding.

Availability of documents. Pursuant to rule 3017.3(b), the Commission will post documents in this docket when the Commission determines such documents are applicable and are able to be made publicly available.

Federal Register publication. Rule 3017.3(c) requires publication in the Federal Register of the notice establishing a docket authorized under part 3017. 39 CFR 3017.3(c). Pursuant to this rule, the Commission directs the Secretary of the Commission to arrange for prompt publication of this Order in the Federal Register.

III. Ordering Paragraphs

It is ordered:

1. The Commission establishes Docket No. IM2019-1 for purposes related to the development of section 407(c)(1) views and invites public comments related to this effort, as described in the body of this Order.

2. Comments are due no later than August 1, 2019.

3. Pursuant to 39 U.S.C. 505, Kenneth E. Richardson is appointed to serve as an officer of the Commission (Public Representative) to represent the interests of the general public in this docket.

4. The Secretary is directed to post documents in this docket when the Commission determines such documents are applicable and are able to be made publicly available.

5. The Secretary shall arrange for publication of this order in the Federal Register.

By the Commission.
Stacy L. Ruble,
Secretary.

[FR Doc. 2019-13510 Filed 6-25-19; 8:45 am]

BILLING CODE 7710-FW-P